GENERAL SERVICES ADMINISTRATION

41 CFR Parts 300-2, 302-2, 302-3, and 302-15

[FTR Case 2023-01; Docket No. GSA-FTR-2024-0009, Sequence No. 1]

RIN 3090-AK75

Federal Travel Regulation; Removing References to Title and Narrative Format and Other Changes Addressing Relocation

AGENCY: Office of Government-wide Policy (OGP), General Services Administration (GSA).

ACTION: Final rule.

SUMMARY: The Federal Travel Regulation (FTR) was originally written in title and narrative format. The entire FTR has since been re-written in question and answer format to align with plain language standards. This final rule removes the remaining references to the defunct title and narrative format, clarifies the applicability of the FTR, and clarifies multiple provisions regarding relocation authorization and allowances. Finally, the final rule makes various editorial changes to better align the regulatory question with its corresponding answer.

DATES: Effective date: December 13, 2024.

FOR FURTHER INFORMATION CONTACT: Mr. Ed Davis, Program Analyst, Office of Government-wide Policy, at 202-669-1653 or travelpolicy@gsa.gov for clarification of content. For information pertaining to status or publication schedules, contact the Regulatory Secretariat Division at 202-501-4755 or GSARegSec@gsa.gov. Please cite “FTR Case 2023-01.”

SUPPLEMENTARY INFORMATION:

I. Background

Consistent with Executive Order 12866, Regulatory Planning and Review, and the June 1, 1998, Memorandum on Plain Language in Government Writing, and its implementing guidance, GSA began rewriting the FTR in plain language, which resulted in format changes from title and narrative to question and answer. On August 21, 2014, with FTR Amendment 2014-01 (79 FR 49640), GSA changed the last remaining part of the FTR to question and answer format. However, outdated references to title and narrative format in FTR part 300-2 still remain; this final rule removes them.

This final rule also refines the answer to the question “Who is subject to the FTR,” clarifying that, as to executive agencies (as defined in 5 U.S.C. 105), those agencies and civilian employees of those executive agencies are subject to the FTR. This does not include uniformed military members, who are subject to U.S.C., title 10, or employees of other than an “executive agency” as defined in 5 U.S.C. 105. This is merely a clarification and does not change the present understanding of who is subject to the FTR.

This final rule moves the section on relocation service agreements in FTR part 302-3 to part 302-2, as the section is a better fit under part 302-2. As a result, § 302-3.500 was updated to remove the limitation for agencies to implement policies only as to part 302-3 because paragraph (a) refers to one of the regulations that was moved to part 302-2. The heading for § 302-3.500 was also updated to add “authorization” in addition to “payment” of relocation payments as the section addresses both. Also, additional discretionary items for househunting and property management services were added to § 302-3.101, Table C, Column 2, to match the same discretionary items noted in parts 302-5 and 302-15. These additions are not new discretionary allowances; they were inadvertently left off the table when FTR Amendment 2021-02 (86 FR 73678) was published. FTR § 302-15.10 is also amended to clarify the time periods for which agencies may pay for property management services; the FTR now specifically addresses the time period for those employees transferring from a foreign area post to an official station in the U.S. if other than the one from which they were transferred for their foreign tour of duty.

II. Discussion of the Final Rule

A. Summary of Significant Changes

There are no significant changes; a summary of changes is included in the Background section.

B. Analysis of Public Comments

This rule addresses matters of agency management or personnel and consequently is exempt from the notice and comment requirements of the Administrative Procedure Act. As such, notice and comment was not sought prior to publication of this final rule.

C. Expected Cost Impact to the Public

There is no cost impact expected as a result of these changes.

III. Executive Orders 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) amends section 3(f) of Executive Order 12866 and supplements and reaffirms the principles, structures, and definitions governing contemporary regulatory review established in E.O. 12866 and E.O. 13563. The Office of Management and Budget's Office of Information and Regulatory Affairs (OIRA), has determined that this rule is not a significant regulatory action and, therefore, it is not subject to review under section 6(b) of E.O. 12866.

IV. Congressional Review Act

OIRA has determined that this rule is not a “major rule” under 5 U.S.C. 804(2). Title II, Subtitle E of the Small Business Regulatory Enforcement Fairness Act of 1996 (codified at 5 U.S.C. 801-808), also known as the Congressional Review Act or CRA, generally provides that before a rule may take effect, unless excepted, the agency promulgating the rule must submit a rule report, which includes a copy of the rule, to each House of the Congress and to the Comptroller General of the United States. This rule is excepted from CRA reporting requirements prescribed under 5 U.S.C. 801 as it relates to agency management or personnel under 5 U.S.C. 804(3)(B).

V. Regulatory Flexibility Act

This final rule will not have a significant economic impact on a substantial number of small entities within the meaning of the Regulatory Flexibility Act, 5 U.S.C. 601, et seq. This final rule is also exempt from the Administrative Procedure Act pursuant to 5 U.S.C. 553(a)(2) because it applies to agency management or personnel. Therefore, an Initial Regulatory Flexibility Analysis was not performed.

VI. Paperwork Reduction Act

The Paperwork Reduction Act does not apply because the changes to the FTR do not impose recordkeeping or information collection requirements, or the collection of information from offerors, contractors, or members of the public that require the approval of the Office of Management and Budget (OMB) under 44 U.S.C. 3501, et seq.

List of Subjects in 41 CFR Parts 300-2, 302-2, 302-3, and 302-15

Government employees, Relocation, Travel and transportation expenses.

Robin Carnahan,
Administrator of General Services.

For the reasons set forth in the preamble, GSA amends 41 CFR parts 300-2, 302-2, 302-3, and 302-15 as follows:

1. Revise part 300-2 to read as follows:

PART 300-2—HOW TO USE THE FTR

Sec.
300-2.1 How is the FTR formatted?
300-2.2 How are the rules in this part expressed in the Q&A format?
300-2.3 Who is subject to the FTR?
300-2.4 How is the user addressed in the FTR?

Authority: 5 U.S.C. 5707; 5 U.S.C. 5738; 5 U.S.C. 5741-5742; 20 U.S.C. 905(a); 31 U.S.C. 1353; 40 U.S.C. 121(c); 49 U.S.C. 40118; E.O. 11609, 3 CFR, 1971-1975 Comp., p. 586.

§ 300-2.1 How is the FTR formatted?

The FTR is written in a question and answer (Q&A) format, which is an effective way to engage the reader and present the information in digestible pieces.

§ 300-2.2 How are the rules in this part expressed in the Q&A format?

The rules in this part are expressed in both the question and answer.

§ 300-2.3 Who is subject to the FTR?

As to executive agencies (see § 300-3.1 of this chapter), civilian employees of an executive agency, and the executive agency itself, are subject to the FTR. Since the user may be an employee or an agency, portions of the FTR have been separated into employee and agency sections. However, while the employee provisions are addressed to the employee, the rules expressed in those provisions apply to the agency as well. The following lists the relevant employee and agency sections of the FTR:

Table 1 to § 300-2.3
For | The employee provisions contained in | And the agency provisions are contained in
Chapter 300 | N/A | Subchapter B.
Chapter 301 | Subchapters A, B, and C | Subchapter D.
Chapter 302 | Subchapters A, B, C, D, E, and F | Subchapters A, B, C, D, E, and F.
Chapter 303 | N/A | Part 303-70.
Chapter 304 | Subchapter A | Subchapters B and C.

§ 300-2.4 How is the user addressed in the FTR?

The FTR asks questions in the first person, as the user would. It then answers the questions in the second and third person. In the employee sections, the employee is addressed in the singular, and in the agency sections, the agency is addressed in the plural. The following describes how employee and agency are addressed in both sections:

Table 1 to § 300-2.4
When you are in the | And you are looking at a | The employee is referred to using | And the agency is referred to using
Employee section | Question | I, me, or my | Agency.
| Answer | You or your | Agency.
Agency section | Question | Employee or their | We, us, or our.
| Answer | Employee or their | You or your.

PART 302-2—EMPLOYEE ELIGIBILITY REQUIREMENTS

2. The authority citation for part 302-2 continues to read as follows:

Authority: 5 U.S.C. 5738; 20 U.S.C. 905(a).

3. Revise the heading of part 302-2 to read as set forth above.

Subpart B—Agency Responsibilities

4. Add an undesignated center heading and §§ 302-2.107 through 302-2.109 to read as follows:

Service Agreements

§ 302-2.107 Must we require employees to sign a service agreement?

Yes, you must require employees to sign a service agreement if the employee is receiving reimbursement for relocation travel expenses, except as provided in § 302-2.17 and §§ 302-3.300 (see the note to table F in § 302-3.101 of this chapter; no service agreement is required for separation or relocation where the gaining agency does not authorize relocation expenses) and 302-3.410 of this chapter.

§ 302-2.108 What information should we include in a service agreement?

The service agreement should include, but not be limited to the following:

(a) The employee's name;

(b) The employee's effective date of transfer or appointment;

(c) The employee's actual place of residence at the time of appointment;

(d) The name of all dependents that are authorized to travel under the TA;

(e) Detailed information regarding the employee's obligation to repay funds spent on the employee's relocation as a debt due the Government if the service agreement is violated;

(f) The employee's agreed period of time (see § 302-2.109) to remain in service; and

(g) The employee's signature accepting the terms of the agreement.

§ 302-2.109 How long must we require an employee to agree to the terms of a service agreement?

You must require an employee to agree to the terms of a service agreement:

(a) Within CONUS for a period of service of not less than 12 months following the effective date of appointment or transfer;

(b) OCONUS for an agreed upon period of service of not more than 36 months or less than 12 months following the effective date of appointment or transfer;

(c) Department of Defense Overseas Dependent School System teachers for a period of not less than one school year as determined under 20 U.S.C. chapter 25;

(d) For renewal agreement travel, a period of not less than 12 months from the date of return to the same or different overseas official station; and

(e) For assignment under the Government Employees Training Act (GETA), not less than three times the length of the training period as prescribed by the head of the agency.

§ 302-2.110 [Redesignated as § 302-2.111]

5. Redesignate § 302-2.110 as § 302-2.111.

6. Add new § 302-2.110 under the undesignated center heading “Service Agreements” to read as follows:

§ 302-2.110 May we pay relocation expenses if the employee violates their service agreement?

If an employee does not fulfill the terms of the service agreement, the employee is indebted to the Government for all relocation expenses that have been reimbursed to the employee or that have been paid directly by the Government. However, if the reasons for not fulfilling the terms of the service agreement are beyond the employee's control and acceptable to the agency, you may release the employee from the service agreement and waive any indebtedness.

PART 302-3—RELOCATION ALLOWANCE BY SPECIFIC TYPE

7. The authority citation for part 302-3 continues to read as follows:

Authority: 5 U.S.C. 5738; 20 U.S.C. 905(a).

8. Amend § 302-3.101 in table C by revising entries 5 and 6 and footnote 1 to read as follows:

302-3.101 As a transferred employee or other relocated employee what relocation allowances must my agency pay or reimburse to me?

* * * * *

Table C—Transfer From OCONUS Official Station to an Official Station in CONUS
Column 1—Relocation allowances that agency must pay or reimburse | Column 2—Relocation allowances that agency has discretionary authority to pay or reimburse
* * * * * * *
5. Extended storage of household goods only when assigned to a designated isolated official station in CONUS (part 302-8 of this chapter) | 5. Househunting per diem & transportation, employee & spouse only when transfer is from an OCONUS non-foreign area (part 302-5 of this chapter).
6. Relocation income tax allowance (RITA) (part 302-17 of this chapter) | 6. Property Management Services (part 302-15 of this chapter).¹
¹ Note to Column 1, Item 3, and Column 2, Item 6: Allowed when old and new official stations are located in the United States. Also allowed when instead of being returned to the former official station in the United States, an employee is transferred in the interest of the Government to a different official station in the United States than the official station from which an employee was transferred when assigned to the foreign official station.

* * * * *

§ 302-3.213 [Amended]

9. Amend § 302-3.213 by removing “item five of Tables A and B” and adding “table E” in its place.

§ 302-3.221 [Amended]

10. Amend § 302-3.221 by removing “(other than your actual place of residence).”.

11. Revise § 302-3.227 to read as follows:

§ 302-3.227 If I become divorced from my spouse or terminate my committed relationship with my domestic partner while OCONUS will I receive reimbursement to return my former spouse or domestic partner and dependents to the U.S.?

Yes, if you become divorced from your spouse or terminate your committed relationship with your domestic partner while OCONUS, you will receive reimbursement of transportation expenses to return your former spouse or domestic partner and other immediate family members to your place of actual residence within or outside CONUS. Early return expenses for the immediate family are limited to transportation and shipment of household goods and personal effects. Early return expenses do not include other relocation expenses such as TQSE and miscellaneous expense allowance.

12. Amend § 302-3.500 by revising the section heading, introductory text, and paragraph (a) to read as follows:

§ 302-3.500 What governing policies and procedures must we establish for authorization and payment of relocation allowances?

You must establish governing policies and procedures that determine:

(a) When you will pay relocation expenses if an employee violates their service agreement (see § 302-2.110 of this chapter);

* * * * *

§§ 302-3.503 through 302-3.506 [Removed]

13. Remove the undesignated center heading “SERVICE AGREEMENTS” and §§ 302-3.503 through 302-3.506.

§§ 302-3.507 through 302-3.517 [Redesignated as §§ 302-3.503 through 302-3.513]

14. Redesignate §§ 302-3.507 through 302-3.517 as §§ 302-3.503 through 302-3.513.

§ 302-3.505 [Amended]

15. Amend newly redesignated § 302-3.505 by removing from paragraph (b) “8 U.S.C. 1101(33)” and adding “8 U.S.C. 1101(a)(33)” in its place.

§ 302-3.510 [Amended]

16. Amend newly redesignated § 302-3.510 by removing from paragraph (c) “302-3.515” and adding “302-3.511” in its place.

PART 302-15—ALLOWANCE FOR PROPERTY MANAGEMENT SERVICES

17. The authority citation for part 302-15 continues to read as follows:

Authority: 5 U.S.C. 5738; 20 U.S.C. 905(a); E.O. 11609, as amended, 3 CFR, 1971-1975 Comp., p. 586.

18. Revise § 302-15.10 to read as follows:

§ 302-15.10 How long may my agency pay for property management services under this part?

The length of time your agency may pay for property management services under this part depends on the type of transfer.

(a) If you transfer within the United States, your agency may pay for a period not to exceed one year from your effective date of transfer, with up to a 1-year extension, under the same conditions required in § 302-11.21 of this chapter.

(b) If you transfer to a foreign area post of duty, including successive foreign area tours of duty for which you signed a new service agreement (see § 302-15.4), your agency may pay from your effective date of transfer until you return to the last official station in the United States from which you transferred.

(c) If you transfer from a foreign area post of duty, including successive foreign area tours of duty for which you signed a new service agreement (see § 302-15.4), to a different official station in the United States than the one from which you were transferred from for your foreign area tour of duty (see § 302-15.6), your agency may pay for a period not to exceed one year from your effective date of transfer to the US, with up to a 1-year extension, under the same conditions required in § 302-11.21 of this chapter.

(d) If you transfer to a foreign area post of duty, complete your service agreement, and remain there without signing a new service agreement, your agency may pay from the effective date of your transfer to when your service agreement is completed.

(e) If you transfer to a foreign area post of duty and separate from Government service before completing your service agreement, your agency may pay from the effective date of your transfer to the date of your separation.

(f) If you transfer within the United States or from a foreign area post of duty to a different official station in the United States than the one from which you were transferred for your foreign area tour of duty, and you separate from Government service before the time periods stated in paragraphs (a) and (c) of this section, your agency may pay from the effective date of your transfer to the date of your separation.

[FR Doc. 2024-26241 Filed 11-12-24; 8:45 am]

BILLING CODE 6820-14-P